DEPARTMENT OF ENERGY

[FE Docket Nos. PP-50 and PP-219]

Application for Presidential Permit, Central Power & Light; Request to Rescind Presidential Permit, Comision Federal de Electricidad

AGENCY: Office of Fossil Energy, DOE.

ACTION: Notice of Application; Request for Rescission.

SUMMARY: Central Power and Light Company (CPL) has applied for a Presidential permit to operate and maintain existing electric transmission facilities across the U.S. border with Mexico. In the same application, Comision Federal de Electricidad (CFE) has requested a rescission of its Presidential permit originally granted for the construction of these same cross-border transmission facilities.

DATES: Comments, protests or requests to intervene must be submitted on or before March 17, 2000.

ADDRESSES: Comments, protests, or requests to intervene should be addressed as follows: Office of Coal & Power Import and Export (FE-27), Office of Fossil Energy, U.S. Department of Energy, 1000 Independence Avenue, SW, Washington, DC 20585.

FOR FURTHER INFORMATION CONTACT: Ellen Russell (Program Office) 202-586-9624 or Michael T. Skinker (Program Attorney) 202-586-2793.

SUPPLEMENTARY INFORMATION: The construction, connection, operation, and maintenance of facilities at the international border of the United States for the transmission of electric energy between the United States and a foreign country is prohibited in the absence of a Presidential permit issued pursuant to Executive Order (EO) 10485, as amended by EO 12038.

On February 9, 2000, CPL, a wholly owned subsidiary of Central and South West Corporation, a public utility regulated by both the Federal Energy Regulatory Commission (FERC) and the Public Utility Commission of Texas, filed an application with the Office of Fossil Energy (FE) of the Department of Energy (DOE) for a Presidential permit. CPL proposes to operate and maintain existing international transmission facilities at Eagle Pass, Texas. Construction of these existing facilities was authorized by Presidential Permit PP-50 issued to CFE, the national electric utility of Mexico. The CPL application also includes a letter from CFE requesting that DOE rescind PP-50 coincident with issuance of a Presidential permit to CPL.

Presidential Permit PP-50 originally was granted by the Federal Power Commission on February 8, 1971, in Order E-6192, and authorized construction of a 138,000-volt (138-kV) transmission line extending approximately 1.3 miles from CPL's Eagle Pass, Texas, substation to the United States border with Mexico. From the border, the transmission line continues approximately 3.7 miles to Piedras Negras in Mexico's State of Coahuila. CPL does not propose to change the physical facilities previously authorized to CFE. Rather, CPL proposes to change the manner in which the facilities will be operated.

In its application, CPL indicates that it is installing High Voltage Direct Current (HVDC) equipment in the form of Voltage Source Converter technology at its Eagle Pass substation to address transmission reliability problems that exist in the area. CPL expects that the installation of this equipment will relieve the existing transmission constraints within the Electric Reliability Council of Texas. In its Presidential permit application, CPL is requesting DOE to authorize the connection of this HVDC equipment to the international transmission facilities authorized by PP-50 in order to enhance cross-border transmission of electric energy.

Presently, the PP-50 facilities can only be operated as a radial connection between the CFE and CPL systems. In this mode of operation, electric energy can only be transmitted from one system to the other by means of a “block-loading” scheme. Connection of the HVDC equipment to the PP-50 facilities would convert the interconnection with CFE to a continuous asychronous interconnection.

On July 27, 1999, DOE published a notice in the Federal Register indicating its intention to amend certain Presidential permits to require permit holders to provide non-discriminatory open access transmission services over their international transmission lines. In that notice, the cross-border facilities authorized by Presidential Permit PP-50 were included in a list of facilities proposed to receive this open access condition. Since the facilities covered by Presidential Permits PP-50 and the proposed PP-219 are the same, it would be DOE's intention to add such an open access condition to PP-219, if granted, at the conclusion of DOE's open access proceeding in Docket No. 99-1.

Procedural Matters

Any person desiring to be heard or to protest this application should file a petition to intervene or protest at the address provided above in accordance with section 385.211 or 385.214 of the Federal Energy Regulatory Commission's Rules of Practice and Procedure (18 CFE 385.211, 385.214).

Fifteen copies of such petitions and protests should be filed with DOE on or before the date listed above. Additional copies of such petitions to intervene or protest also should be filed directly with: Alan McQueen, Project Manager, Central and South West Service Inc., Two West Second Street, Tulsa, OK 74103 and Carolyn Y. Thompson, Jones, Day, Reavis & Pogue, 51 Louisiana Avenue, NW, Washington, DC 20001-2113.

Before a Presidential permit may be issued or amended, DOE must determine that the proposed action will not adversely impact on the reliability of the U.S. electric power supply system. In addition, DOE must consider the environmental impacts of the proposed action pursuant to the National Environmental Policy Act of 1969 (NEPA). DOE also must obtain the concurrences of the Secretary of State and the Secretary of Defense before taking final action on a Presidential permit application.

Copies of this application will be made available, upon request, for public inspection and copying at the address provided above. In addition, the application may be reviewed or downloaded from the Fossil Energy Home Page at: http://www.fe.doe.gov. Upon reaching the Fossil Energy Home page, select “Electricity” from the “Regulatory Info” menu, and then “Pending Proceedings” from the options menu.

Issued in Washington, DC, on February 10, 2000.
Anthony J. Como,
Deputy Director, Electric Power Regulation, Office of Coal & Power Im/Ex, Office of Coal & Power Systems, Office of Fossil Energy.

[FR Doc. 00-3697 Filed 2-15-00; 8:45 am]

BILLING CODE 6450-01-P